DEPARTMENT OF THE TREASURY

Fiscal Service

Surety Companies Acceptable on Federal Bonds: Name Change—Atlantic Alliance Fidelity and Surety Company

AGENCY: Financial Management Service, Fiscal Service, Department of the Treasury.

ACTION: Notice.

SUMMARY: This is Supplement No. 18 to the Treasury Department Circular 570; 2001 Revision, published July 2, 2001, at 66 FR 35024.

FOR FURTHER INFORMATION CONTACT: Surety Bond Branch at (202) 874-6765.

SUPPLEMENTARY INFORMATION: Atlantic Alliance Fidelity and Surety Company, a New Jersey corporation, has formally changed its name to the Guarantee Company of North America USA, effective March 1, 2002. The Company was last listed as an acceptable surety on Federal bonds at 66 FR 35029, July 2, 2001.

A Certificate of Authority as an acceptable surety on Federal bonds, dated today, is hereby issued under Sections 9304 to 9308 of Title 31 of the United States Code, to The Guarantee Company of North America USA, Mt. Laurel, New Jersey. This new Certificate replaces the Certificate of Authority issued to the Company under its former name. The underwriting limitation of $300,000 established for the Company as of July 2, 2001, remains unchanged until June 30, 2002.

Certificates of Authority expire on June 30, each year, unless revoked prior to that date. The Certificates are subject to subsequent annual renewal as long the Company remains qualified (31 CFR part 223). A list of qualified companies is published annually as of July 1, in the Department Circular 570, which outlines details as to underwriting limitations, areas in which licensed to transact surety business and other information. Federal bond-approving officers should annotate their reference copies of the Treasury Circular 570, 2002 Revision, at pages 35029 and 35040 to reflect this change.

The Circular may be viewed and downloaded through the Internet at www.fms.treas.gov/c570. A hard copy may be purchased from the Government Printing Office (GPO), Subscription Service, Washington, DC, telephone (202) 512-1800. When ordering the Circular from GPO, use the following stock number: 769-004-40671.

Questions concerning this notice may be directed to the U.S. Department of the Treasury, Financial Management Service, Financial Accounting and Services Division, Surety Bond Branch, 3700 East-West Highway, Room 6F07, Hyattsville, MD 20782.

Dated: April 1, 2002.
Dorothy E. Martin,
Acting Director, Financial Accounting and Service Division, Financial Management Service.

[FR Doc. 02-8526 Filed 4-8-02; 8:45 am]

BILLING CODE 4810-35-M